DEPARTMENT OF ENERGY

Federal Energy Regulatory Commission

[Docket No. PF03-4-000]

Weaver's Cove Energy L.L.C. and Mill River Pipeline L.L.C.; Notice of Intent To Prepare an Environmental Impact Statement for the Proposed Weaver's Cove LNG Project, Request for Comments on Environmental Issues, and Notice of Joint Public Scoping Meeting

July 11, 2003.

The staff of the Federal Energy Regulatory Commission (FERC or Commission) will prepare an environmental impact statement (EIS) that will discuss the environmental impacts of Weaver's Cove Energy L.L.C.’s and Mill River Pipeline L.L.C.”s (collectively referred to as Weaver's Cove) proposed Weaver's Cove LNG Project in Fall River, Massachusetts. The proposed facilities would consist of liquefied natural gas (LNG) import terminal, storage, and vaporization facilities and one or more interconnecting pipeline. The Commission will use the EIS in its decision-making process to determine whether or not to authorize the project.

The Weaver's Cove LNG Project is in the preliminary design stage. At this time no formal application has been filed with the FERC. For this project, the FERC staff is initiating its National Environmental Policy Act (NEPA) review prior to receiving the application. The purpose of the NEPA Pre-filing Process is to involve interested stakeholders early in project planning and to identify and resolve issues before an application is filed with the FERC. A docket number (PF03-4-000) has been established to place information filed by Weaver's Cove and related documents issued by the Commission, into the public record.¹ Once a formal application is filed with the FERC, a new docket number will be established.

¹ To view information in the docket, follow the instructions for using the FERRIS link at the end of this notice.

On May 2, 2003, the FERC staff participated in an interagency meeting in Fall River, Massachusetts to discuss the project and the environmental review process with Weaver's Cove and other key Federal and state agencies. These agencies included: the U.S. Army Corps of Engineers; the U.S. Coast Guard; the Massachusetts Department of Environmental Protection, Energy Facilities Siting Board, and Executive Office of Environmental Affairs; and the Rhode Island Coastal Resources Management Council and Department of Environmental Management. With this notice, we ² are asking these and other Federal, state, and local agencies with jurisdiction and/or special expertise with respect to environmental issues to formally cooperate with us in the preparation of the EIS. These agencies may choose to participate once they have evaluated the proposal relative to their responsibilities. Agencies which would like to request cooperating status should follow the instructions for filing comments described later in this notice.

² “We,” “us,” and “our” refer to the environmental staff of the Office of Energy Projects.

This notice is being sent to residences within 0.5 mile of the proposed LNG terminal site; landowners along the various pipeline routes under consideration; Federal, state, and local government agencies; elected officials; environmental and public interest groups; Native American tribes; and local libraries and newspapers. We encourage government representatives to notify their constituents of this planned project and encourage them to comment on their areas of concern.

Some affected landowners may be contacted by a project representative about the acquisition of an easement to construct, operate, and maintain the proposed facilities. If so, the company should seek to negotiate a mutually acceptable agreement. In the event that the project is certificated by the Commission, that approval conveys the right of eminent domain for securing easements for the pipeline. Therefore, if easement negotiations fail to produce an agreement, the company could initiate condemnation proceedings in accordance with state law.

A fact sheet prepared by the FERC entitled “An Interstate Natural Gas Facility On My Land? What Do I Need To Know?” is attached to this notice as appendix 1.³ This fact sheet addresses a number of typically asked questions, including the use of eminent domain and how to participate in the Commission's proceedings. It is also available for viewing on the FERC Internet Web site (http://www.ferc.gov).

³ The appendices referenced in this notice are not being printed in the Federal Register. Copies are available on the Commission's Internet Web site ( http://www.ferc.gov ) at the “FERRIS” link or from the Commission's Public Reference and Files Maintenance Branch at (202) 502-8371. For instructions on connecting to FERRIS refer to the last page of this notice.

Summary of the Proposed Project

Weaver's Cove proposes to construct and operate an LNG import terminal and natural gas pipeline to import LNG and deliver an average of 400 million British thermal units per day (MMBtu/d), and a peak of 800 MMBtu/d to markets in the northeastern United States. The facilities would consist of:

• A pier and unloading facilities capable of receiving LNG tankers with a capacity of up to 145,000 cubic meters;

• One LNG storage tank with an capacity of 200,000 cubic meters (4.4 billion cubic feet of gas equivalent);

• Vaporization equipment and ancillary facilities;

• Truck loading facilities to deliver LNG to other facilities in the northeastern United States; and

• Two 24-inch-diameter pipelines, between 3 and 7 miles long, to interconnect with the Algonquin Gas Transmission Company pipeline system.⁴

⁴ Weaver's Cove has not yet identified its preferred route for the sendout pipelines. Three alternatives, all predominantly along existing rights-of-way, are currently under consideration.

A map depicting the proposed terminal site and the various pipeline routes under consideration is provided in appendix 2.⁵

⁵ Requests for detailed maps of the facilities may be made to the company directly. Call or e-mail: local 508-678-5700, toll free 1-800-633-5700, or info@weaverscove.com (Web site will be available by July 31, 2003). Be as specific as you can about the location(s) of your area(s) of interest.

Weaver's Cove is requesting approval to begin construction of the LNG facilities in the Fall of 2004. The approximate duration of construction of the terminal facilities would be 3 years. The duration of pipeline construction would be approximately 4 months. Weaver's Cove proposes to place the project in service in the Fall of 2007.

Land Requirements

The proposed LNG terminal would be on a 68-acre site zoned for industrial use on the Taunton River in Fall River, Massachusetts. The site has been formerly used as an oil refinery and a marine import terminal for petroleum products. The riverfront areas of the site are in a Designated Port Area as defined by the Massachusetts Coastal Zone Management plan.

The project would also require maintenance and improvement dredging of approximately 7 miles of the Taunton River Federal Navigation Channel and a turning basin to enable the LNG tankers to access the proposed site. The dredging would occur in Massachusetts and Rhode Island. The total volume of dredging is anticipated to be about 2,100,000 cubic yards. The dredged material would be disposed of in uplands at the terminal site or, if unsuitable for upland disposal, by either confined aquatic disposal cell, confined disposal, or ocean disposal methods.

The EIS Process

NEPA requires the Commission to take into account the environmental impacts that could result from an action whenever it considers the issuance of a Certificate of Public Convenience and Necessity, or an import authorization under Section 3 of the Natural Gas Act. NEPA also requires us to discover and address issues and concerns the public may have about proposals. This process is referred to as “scoping.” The main goal of the scoping process is to focus the analysis in the EIS on the important environmental issues and reasonable alternatives. By this notice, we are requesting agency and public comments on the scope of the issues to be analyzed and presented in the EIS. All scoping comments received will be considered during the preparation of the EIS. To ensure your comments are considered, please carefully follow the instructions in the public participation section of this notice.

Our independent analysis of the issues will be included in a draft EIS. The draft EIS will be mailed to Federal, state, and local government agencies; elected officials; environmental and public interest groups; Native American tribes; affected landowners; other interested parties; local libraries and newspapers; and the Commission's official service list for this proceeding. A 45-day comment period will be allotted for review of the draft EIS. We will consider all comments on the draft EIS and revise the document, as necessary, before issuing a final EIS. In addition, we will consider all comments on the final EIS before we make our recommendations to the Commission.

Public Participation

You can make a difference by providing us with your specific comments or concerns about the project. By becoming a commentor, your concerns will be addressed in the EIS and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426;

• Label one copy of your comments for the attention of Gas Branch 1; and

• Reference Docket No. PF03-4-000 on the original and both copies.

Please note that we are continuing to experience delays in mail deliveries from the U.S. Postal Service. Therefore, the Commission encourages electronic filing of comments. See 18 CFR 385.2001(a)(1)(iii) and the instructions on the Commission's Internet Web site at http://www.ferc.gov under the “e-Filing” link and the link to the User's Guide. Prepare your submission in the same manner as you would if filing on paper and save it to a file on your hard drive. Before you can file comments you will need to create an account by clicking on “Login to File” and then “New User Account.” You will be asked to select the type of filing you are making. This filing is considered a “Comment on Filing.”

Public Scoping Meeting

In addition to or in lieu of sending written comments, we invite you to attend a public scoping meeting that we will conduct in conjunction with the Massachusetts Executive Office of Environmental Affairs. The location and time for this meeting is listed below:

July 29, 2003, 6 pm, Venus de Milo Restaurant, 75 GAR Highway, Swansea, Massachusetts 02777, (508) 678-3901

The public scoping meeting is designed to provide Federal, state, and local agencies, interested groups, affected landowners, and the general public with more detailed information and another opportunity to offer comments on the proposed project. Interested groups and individuals are encouraged to attend the meeting and to present comments on the environmental issues they believe should be addressed in the EIS. A transcript of the meeting will be made so that your comments will be accurately recorded.

Availability of Additional Information

Additional information about the project is available from the Commission's Office of External Affairs, at 1-866-208 FERC (3372) or on the FERC Internet Web site (http://www.ferc.gov). Using the “FERRIS” link, select “General Search” from the FERRIS menu, enter the selected date range and “Docket Number” (i.e., PF03-4-000), and follow the instructions. Searches may also be done using the phrase “Weaver's Cove” in the “Text Search” field. For assistance with access to FERRIS, the helpline can be reached at 1-866-208-3676, TTY (202) 502-8659, or at FERCOnlineSupport@ferc.gov. The FERRIS link on the FERC Internet Web site also provides access to the texts of formal documents issued by the Commission, such as orders, notices, and rule makings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Finally, Weaver's Cove is in the process of establishing an Internet Web site for this project at http://www.weaverscoveenergy.com. The Web site will be available by July 31, 2003 and will include a description of the project, an overview map of the terminal site and pipeline routes, and a link for the public to submit comments on the project. Weaver's Cove will continue to update its Web site with information about the project, and will always accept comments.

Magalie R. Salas,
Secretary.

[FR Doc. 03-18219 Filed 7-17-03; 8:45 am]

BILLING CODE 6717-01-P